DEPARTMENT OF DEFENSE

Office of the Secretary

Notice of Advisory Committee Meeting Date Change

AGENCY: Missile Defense Agency (MDA), DoD.

ACTION: Notice.

SUMMARY: On Tuesday, December 28, 2010 (75 FR 81589) the Department of Defense announced meeting date changes to the closed meetings of the Missile Defense Advisory Committee. Due to administrative matters, these meetings have been rescheduled from January 6-7, 2011 to January 19-20, 2011. There are no other changes to the notice announced on Tuesday, December 14, 2010 (75 FR 77848).

FOR FURTHER INFORMATION CONTACT: Mr. David Bagnati, Designated Federal Officer at MDAC@mda.mil, phone/voice mail 703-695-6438, or mail at 7100 Defense Pentagon, Washington, DC 20301-7100.

Dated: December 29, 2010.
Morgan F. Park,
Alternate OSD Federal Register Liaison Officer, Department of Defense.

[FR Doc. 2010-33168 Filed 1-3-11; 8:45 am]

BILLING CODE 5001-06-P